FEDERAL COMMUNICATIONS COMMISSION

Notice of Public Information Collection(s) Being Submitted to the Office of Management and Budget, Comments Requested

November 30, 2007.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before February 8, 2008. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via Internet at Nicholas_A._Fraser@omb.eop.gov and to Judith-B.Herman@fcc.gov, Federal Communications Commission. To submit your PRA comments by e-mail send them to: PRA@fcc.gov. To view a copy of this information collection request (ICR) submitted to OMB, go to http://www.fcc.gov/omd/pra/collections-review.html.

FOR FURTHER INFORMATION CONTACT: For additional information or copies of the information collection(s), contact Judith B. Herman at 202-418-0214 or via the Internet at Judith-B.Herman@fcc.gov.

SUPPLEMENTARY INFORMATION: OMB Control Number: 3060-0004.

Title: Guidelines for Evaluating the Environmental Effects of Radiofrequency Radiation, Second Memorandum Opinion and Order, ET Docket 93-62, FCC 97-303.

Form No.: N/A.

Type of Review: Extension of a currently approved collection.

Respondents: Business or other for-profit; not-for-profit institutions; and state, local or tribal government.

Number of Respondents: 376,253 respondents; 376,253 responses.

Estimated Time per Response: .44 hours (average).

Frequency of Response: On occasion reporting requirement and third party disclosure requirement.

Obligation to Respond: Required to obtain or retain benefits.

Total Annual Burden: 164,000 hours.

Total Annual Cost: $26,700,000.

Privacy Act Impact Assessment: N/A.

Nature and Extent of Confidentiality: There is no need for confidentiality.

Needs and Uses: The Commission will submit this revision to the OMB after this 60 day comment period to obtain the full three-year clearance from them.

The National Environmental Policy Act of 1969 (NEPA) requires Federal agencies to evaluate the effects of their actions on human environmental quality. To comply with NEPA, the Commission adopted rules in 1997, 47 CFR 1.1307, which revised the Radio Frequency (RF) exposure guidelines for FCC-regulated facilities. The guidelines reflect more recent scientific studies of RF electromagnetic fields and their biological effects, and are designed to ensure that the public and workers are adequately protected from exposure to potentially harmful RF electromagnetic fields. The FCC staff uses the information required under section 1.1307 to determine whether the environmental evaluation is sufficiently complete and in compliance with the FCC rules to be acceptable for filing.

This information is needed because the Commission requires applicants to perform an environmental evaluation with respect to radio frequency electromagnetic fields. Applicants are required to consider contributions from other transmitters within the vicinity of their facility in order to assess the cumulative exposure. Accordingly, to correctly determine compliance with the Commission's exposure limits, an applicant must locate, determine ownership, and gather technical information for all contributing transmitters.

Federal Communications Commission.
Marlene H. Dortch,
Secretary.

[FR Doc. E7-23818 Filed 12-7-07; 8:45 am]

BILLING CODE 6712-01-P